DEPARTMENT OF EDUCATION

Intent To Repay to the Northwest Indian College Funds Recovered as a Result of a Final Audit Determination

AGENCY: Department of Education.

ACTION: Notice of intent to award grantback funds.

Education (Secretary) intends to repay to the Northwest Indian College (NWIC) an amount that represents approximately 57 percent of the amount of funds recovered by the Department of Education (Department) as a result of final audit determinations for audit findings covering fiscal years 1999-2001. The Department's recovery of funds followed resolution of the audit disallowances identified in a September 30, 2004 Program Determination Letter (PDL) issued by the Office of Vocational and Adult Education (OVAE) for the period of July 1, 1999 through November 26, 2001. The PDL sought recovery of $316,096. On December 1, 2004, NWIC appealed the monetary findings in the September 30, 2004 PDL to the Department's Office of the Administrative Law Judges (OALJ). Following discussions and exchanges of information between the parties, on March 27, 2006, the parties entered into a Repayment Agreement (Agreement) that fully resolved the issues in the proceeding and under which NWIC agreed to repay the Department $316,096. The NWIC has repaid the full amount in accordance with the Agreement.

This notice describes NWIC's plan for the use of a portion of the repaid funds and the terms and conditions under which the Secretary intends to make grantback funds available to NWIC.

This notice invites comments on the proposed grantback.

DATES: We must receive your comments on or before April 29, 2009.

ADDRESS: All written comments concerning the proposed grantback should be addressed to Gwen Washington, U.S. Department of Education, 400 Maryland Avenue, SW., room 11076, Potomac Center Plaza (PCP), Washington, DC 20202-7241. If you prefer to send your comments through the internet, use the following address: gwen.washington@ed.gov. You must include the term “Northwest Indian College Grantback” in the subject line of your electronic message.

FOR FURTHER INFORMATION CONTACT: Gwen Washington. Telephone: (202) 245-7790. Fax: (202) 245-7170 or by e-mail: gwen.washington@ed.gov.

If you use a telecommunications device for the deaf (TDD), call the Federal Relay Service (FRS) toll free, at 1-800-877-8339.

Individuals with disabilities can obtain a copy of this notice in an accessible format (e.g., Braille, large print, audiotape, or computer diskette) by contacting the person listed in this section.

SUPPLEMENTARY INFORMATION: Invitation to Comment: We invite you to submit comments regarding this notice. To ensure that your comments have maximum effect on the Secretary's decision regarding awarding this grantback, we urge you to identify clearly the specific proposal that each comment addresses.

During and after the comment period, you may inspect all public comments about this notice in room 11076, 550 12th Street, SW., Washington, DC, between the hours of 8:30 a.m. and 4:00 p.m., Washington, DC time, Monday through Friday of each week except Federal holidays.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

A. Background

Under the terms of a March 27, 2006 Repayment Agreement between the Department and NWIC, the Department recovered a total of $316,096 from NWIC following resolution of audit findings contained in an audit report issued by the Department's Office of Inspector General (OIG) covering audit periods July 1, 1999 through June 30, 2001 and October 1, 1999 through November 26, 2001 (Audit Control Number ED-OIG/A09-C0026). Prior to entering into the Agreement, the Department and NWIC engaged in the cooperative audit resolution of the findings contained in the audit report in an effort to address the root causes of the problems and to avoid recurrence of these findings in the future. The OIG audit report and this grantback request involve two Department grants awarded under the Indian Vocational Education Program (IVEP) (CFDA 84.101A): a Document Imaging Specialist Certificate (DISC) grant and a Promising Practices grant.

The IVEP was authorized under section 103 of the Carl D. Perkins Vocational and Applied Technology Education Act of 1990 (Perkins II). The IVEP was succeeded by the Native American Vocational and Technical Education Program (NAVTEP), authorized under section 116 of the Carl D. Perkins Vocational and Technical Education Act of 1998 (Perkins III). The NAVTEP was replaced by the Native American Career and Technical Education Program (NACTEP), authorized under section 116 of the Carl D. Perkins Career and Technical Education Act of 2006 (Perkins IV).

1. IVEP—DISC Grant

Under the terms of the DISC grant, NWIC was to provide vocational education and training in electronic document management and document conversion services to unemployed and low-income members of its tribal service population. One finding resulting in NWIC's repayment of funds related to NWIC's improper awards of stipends to certain DISC students who were either ineligible to receive stipends or received more than they were eligible to receive. Moreover, section 103(b)(1)(D) of Perkins II and the regulations in effect when the DISC Project grant award was made to NWIC (34 CFR 401 (1999)) established the conditions under which an IVEP grantee was authorized to provide stipends to students. The Department determined that NWIC had used its IVEP grant to pay stipends in a manner inconsistent with Perkins II and its implementing regulations. The stipend finding resulted in the Department's claim for recovery of $150,670.

2. IVEP—Promising Practices Grant

Under the Promising Practices grant, NWIC was required to survey, assemble, and distribute best practices in the use of technology on projects funded by the IVEP. Required deliverables included:

• A survey instrument developed in consultation with OVAE personnel;

• Identification of eight promising practices sites;

• Manuals summarizing practices for all IVEP projects;

• A list of contacts at each IVEP project who were responsible for technology; and

• A presentation at an annual project directors' meeting for IVEP grantees.

NWIC failed to complete most of the activities it had committed to completing under the grant and failed to provide required products and deliverables. The products and deliverables and the draft documents that NWIC provided to the Department contained no comprehensive discussion of survey findings, and the case studies on the selected sites were not prepared. In addition, the quality of products and deliverables that NWIC did prepare under the Promising Practices project had been severely compromised because NWIC had not used a panel of experts to select the sites of Promising Practices and because NWIC had not identified the criteria or standards it had used to select Promising Practices sites. Moreover, although required to do so under the terms of the Promising Practices grant, NWIC did not produce any Promising Practices manuals.

Because NWIC did not deliver the agreed-upon products and manuals proposed in its approved grant, neither the Department nor its NAVTEP grantees benefited from the information on best practices in the use of technology, and the Department was denied a resource for providing technical assistance to future NAVTEP grantees. Based on NWIC's failure to deliver products and deliverables under the Promising Practices grant, the Department sought repayment of $57,800.

3. DISC and Promising Practices Grants Unsupported Costs

The Department also sought recovery of $107,626 due to NWIC's charging of unreasonable and unallowable charges to both the DISC and the Promising Practices grants and because NWIC lacked the required supporting documentation for certain transactions under both grants.

Under the terms of the Agreement between the Department and NWIC, NWIC has repaid to the Department the full $316,096 and established the necessary managerial and financial systems needed to provide oversight of institutional and grant resources. NWIC is requesting approval of a grantback in the amount of $179,855, which is approximately 57 percent of the amount it repaid to the Department.

B. Authority for Awarding a Grantback

Section 459(a) of GEPA, 20 U.S.C. 1234h(a), provides that, whenever the Secretary has recovered funds under an applicable program because the recipient made an expenditure of funds that was not allowable, the Secretary may consider those funds to be additional funds available for the program and may arrange to repay to the grantee affected by that determination an amount not to exceed 75 percent of the recovered funds. The Secretary may enter into this grantback requested by NWIC if the Secretary determines that—

(a) The NWIC practices and procedures that resulted in the audit findings in question have been corrected, and NWIC is in compliance with the requirements of the applicable programs;

(b) NWIC has submitted to the Secretary a plan for the use of the funds to be awarded under the grantback arrangement that meets the requirements of the program and, to the extent possible, benefits the population that was affected by the failure to comply or by misexpenditures that resulted in the recovery; and

(c) The use of funds to be awarded under the grantback arrangement in accordance with NWIC's plan would serve to achieve the purposes of the program under which the funds were originally granted.

C. NWIC's Plan for Use of Funds Awarded Under a Grantback Arrangement

Pursuant to section 459(a)(2) of GEPA, NWIC has applied for a grantback totaling $179,855, which is approximately 57 percent of the principal amount of the recovered funds and has submitted a plan outlining the activities that NWIC would support with the grantback funds. Specifically, NWIC plans to utilize the grantback of funds recovered under the IVEP to pay costs associated with a proposed Digital Media and Web Technology program. As proposed, students would take the entire Digital Media and Web Technology program in a 20-week block, consisting of 10 weeks of intensive classroom instruction at the main NWIC Lummi campus followed immediately by 10 weeks of an internship and an integrated capstone project. The intensive classes would consist of 24 contact hours a week (six hours per day, Monday through Thursday). The program would provide participants who successfully complete the course training, an internship, and a capstone course with a certificate of completion. Program completers would receive the skills and knowledge necessary to: (1) Pass Adobe's Certified Associate exams in: Web Communication—using Adobe “Dreamweaver,” Rich Media Communication—using Adobe “Flash,” and Visual Communication—using Adobe “Photoshop;” (2) obtain Adobe Certified Associate certifications in one or more of those Adobe applications; and (3) subsequently obtain high-quality employment in the field of digital media. It is important to note that the proposed new certification program does not supplant non-Federal funds already available to NWIC.

The proposed project would focus strongly on career and technical education (CTE) skill development in digital media and web technology and provide course content that is experiential and individually directed, and concludes with an internship and a capstone project. The capstone project has been specifically designed to integrate and assess the skills developed in the courses taught during the first 10 weeks of the Digital Media and Web Technology program. Students would be expected to demonstrate mastery of the Adobe Certified Associate skills through a capstone project presentation that reflects both their classroom and internship work. Together, the classroom work, internship, and capstone segments constitute a single coherent and integrated curriculum—the goal of which is to prepare students to master the Adobe Certified Associate skills, receive an Award of Completion, pass the Certified Adobe Associate exam, and gain successful employment.

Funding for the program would support: (1) limited pre-award costs for recruiting students who are academically prepared to benefit from the intensive Digital Media and Web Technology program, and (2) implementation costs, including salaries for the project director and classroom instructors, costs of supervising and advising students, and employment placement costs, through September 30, 2009. In its grantback request, NWIC has stated that a total of 32 students, equally divided between two cycles, would participate in the program with an expected job placement rate of 85 percent within six months of program completion. The proposed Digital Media and Web Technology program is a CTE program using Adobe software and incorporating all of the learning objectives identified by Adobe for the Adobe Certified Associate programs: Web Communication Using Adobe “Dreamweaver,” Rich Media Communication Using Adobe “Flash,” and Visual Communication using Adobe “Photoshop.” The Digital Media and Web Technology program will prepare students to enter their chosen disciplines upon completion of the program. As part of the program, NWIC plans to provide opportunities for students to practice taking the Adobe Certified Associate exams and expects to administer the exams after the completion of each of the two training cycles. NWIC proposes that exam preparation and testing would be fully integrated into the Digital Media and Web Technology program. In addition, NWIC will identify and recruit potential students in an effort to be fully prepared to start training the first cohort of students by late April or early May 2009, if a grantback is awarded.

NWIC has designed this program to be sustainable after completion of the two cycles, allowing NWIC to continue to deliver a Digital Media and Web Technology program on an ongoing basis once Federal grantback funds are no longer available. NWIC notes in its grantback request that the proposed Digital Media and Web Technology program broadens its technical offerings into areas that are in demand both within tribal communities and throughout the Pacific Northwest. NWIC is hopeful that the Digital Media and Web Technology program will provide attractive long-term employment opportunities, because it will emphasize marketing, recruiting, internship, and placement activities to a greater extent than does NWIC's current computer technology programming. It is NWIC's intention that these activities and their benefits would continue beyond the proposed project time frame and would increase the reach and sustainability of NWIC's computer and technology educational programming. Additionally, preparing NWIC students to pass the Adobe Certified Associate exams would prepare those students for nationally recognized certifications thereby further broadening their employment options.

D. The Secretary's Determinations

The Secretary has carefully reviewed the plan submitted by NWIC. Based upon that review, the Secretary has determined that the conditions under section 459(a) of GEPA have been met.

This determination is based upon the best information available to the Secretary at the present time. If this information is not accurate or complete, the Secretary is not precluded from taking appropriate administrative action. In finding that the conditions of section 459(a) of GEPA have been met, the Secretary makes no determination concerning any pending audit recommendations or final audit determinations.

The Secretary also has concluded that, to the extent possible, this grantback award would support the provision of services to the population of intended beneficiaries of the program under which the DISC and Promising Practices grants were originally made. The population of intended beneficiaries under IVEP and NAVTEP may not have received the full benefit of the services intended by the Perkins IVEP grant awards, currently NACTEP, due to the problems that gave rise to the audit recovery described in Section A of this notice. The Secretary has determined that if awarded, this grantback would advance and support the same policy goals and purposes of the statutory Perkins II provisions that authorized the initial DISC and Promising Practices grants and would be used in compliance with all current statutory and regulatory program requirements.

E. Notice of the Secretary's Intent to Enter into a Grantback Arrangement with NWIC

Section 459(d) of GEPA requires that, at least 30 days before entering into an arrangement to award funds under a grantback, the Secretary publish in the Federal Register a notice of intent to do so, and the terms and conditions under which the payment would be made. In accordance with section 459(d) of GEPA, notice is hereby given that the Secretary intends to make funds available to NWIC under a grantback arrangement. The grantback award would be in the amount of $179,855, which is approximately 57 percent of the principal amount recovered as a result of the Agreement.

F. Terms and Conditions Under Which Payments Under a Grantback Arrangement with NWIC Would Be Made

NWIC agrees to comply with the following terms and conditions under which payments under a grantback arrangement would be made:

(a) The funds awarded under the grantback must be spent in accordance with—

(1) All applicable statutory and regulatory requirements;

(2) The plan that NWIC submitted and any amendments to the plan that are approved in advance by the Secretary; and

(3) The budget that NWIC submitted with the approved plan and any amendments to the budget that are approved in advance by the Secretary.

(b) All funds received under the grantback arrangement must be obligated by NWIC by September 30, 2009, in accordance with section 459(c) of GEPA and NWIC's approved plan.

(c) NWIC must, no later than December 31, 2009, submit a report to the Secretary that—

(1) Indicates that the funds awarded under the grantback have been spent in accordance with the proposed plan and any amendments that have been approved in advance by the Secretary; and

(2) Describes the results and effectiveness of the project for which the funds were spent, including the number of students who enrolled in the training sessions, the number of students who received an Award of Completion, the number of students who took the Adobe exams, and the number of students who passed the exams and obtained Adobe certifications.

(d) NWIC must maintain separate accounting records documenting the expenditures of funds awarded under the grantback arrangement.

Electronic Access to This Document

You can view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

(Catalog of Federal Domestic Assistance Numbers: 84.101A, Native American Career and Technical Education Program.)

Dated: March 25, 2009.
Dennis Berry,
Acting Assistant Secretary for Vocational and Adult Education.

[FR Doc. E9-7036 Filed 3-27-09; 8:45 am]

BILLING CODE 4000-01-P